DEPARTMENT OF LABOR

Employment and Training Administration

[TA-W-37,981]

Adirondack Knitting Mills, Amsterdam, NY; Dismissal of Application for Reconsideration

Pursuant to 29 CFR 90.18(C) an application for administrative reconsideration was filed with the Director of the Division of Trade Adjustment Assistance for workers at Adirondack Knitting Mills, Amsterdam, New York. The application contained no new substantial information which would bear importantly on the Department's determination. Therefore, dismissal of the application was issued.

TA-W-37,981; Adirondack Knitting Mills Amsterdam, New York (October 25, 2000).

Signed at Washington, D.C. this 26th day of October, 2000.
Edward A. Tomchick,
Director, Division of Trade Adjustment Assistance.

[FR Doc. 00-28243 Filed 11-2-00; 8:45 am]

BILLING CODE 4510-30-M